DEPARTMENT OF THE INTERIOR

Bureau of Land Management

[LLORB07000.L17110000.AL0000. LXSSH1060000.22X.HAG 22-0015]

Subcommittee Meeting for the Steens Mountain Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM) Steens Mountain Advisory Council (SMAC) Recreation and Visitor Use Subcomittee will meet as follows.

DATES: The SMAC will hold a virtual meeting via the Zoom for Government platform on Thursday, June 9, 2022, from 10 a.m. to 2:15 p.m. Pacific Time.

ADDRESSES: The final meeting agenda and contact information regarding Zoom meeting details will be published on the SMAC web page at least 10 days in advance at https://go.usa.gov/xzkD8.

FOR FURTHER INFORMATION CONTACT: Tara Thissell, Public Affairs Specialist, BLM Burns District Office, 28910 Highway 20 West, Hines, Oregon 97738; telephone: (541) 573-4519; email: tthissell@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The SMAC was established August 14, 2001, pursuant to the Steens Mountain Cooperative Management and Protection Act of 2000 (Steens Act) (Pub. L. 106-399). The SMAC provides recommendations to the BLM regarding new and unique approaches to management of the land within the bounds of the Steens Mountain Cooperative Management and Protection Area (CMPA), recommends cooperative programs and incentives for landscape management that meet human needs, and advises the BLM on potential maintenance and improvement of the ecological and economic integrity of the area.

The SMAC's Recreation and Visitor Use Subcommittee was established in 2019 and serves to gather information, conduct research, and analyze recreation and/or visitor use issues in the Steens Mountain CMPA. Issues could relate to parking, hiking, motorized or non-motorized use, camping, access, signage, interpretation, restrooms/sanitation, and trail development and maintenance. The Subcommittee reviews all aspects of any recreation issue, formulates suggestions for remedy, and proposes those solutions to the entire SMAC for further discussion and possible recommendation to the BLM. No decisions are made at the subcommittee level.

Agenda items for the June 9, 2022, virtual meeting include: A recreation program update; information sharing from the Designated Federal Official; reviewing alternatives for the Bridge Creek Allotment Management Plans Environmental Impact Statement; and an opportunity for Subcommittee members to share information from their constituents and present research. Any other matters that may reasonably come before the Subcommittee may also be included.

A public comment period is available at 1:15 p.m. Depending on the number of people wishing to comment and the time available, the amount of time for oral comments may be limited. Sessions may end early if all business items are accomplished ahead of schedule or may be extended if discussions warrant more time. All meetings, including virtual sessions, are open to the public in their entirety. Written public comments may be sent to the BLM Burns District Office listed in the ADDRESSES section of this notice or emailed to tthissell@blm.gov. All comments received at least 1 week in advance of the meeting will be provided to the Subcommittee.

Public Disclosure of Comments: Before including your address, phone number, email address, or other personal identifying information in your comments, please be aware that your entire comment—including your personal identifying information—may be made publicly available at any time. While you can ask us in your comment to withhold your personal identifying information from public review, we cannot guarantee that we will be able to do so.

Detailed minutes for the SMAC and Subcommittee meetings will be maintained in the BLM Burns District Office. Minutes will also be posted to the SMAC's web page at https://go.usa.gov/xzkD8.

(Authority: 43 CFR 1784.4-2)

Jeffrey Rose,
District Manager.

[FR Doc. 2022-08119 Filed 4-14-22; 8:45 am]

BILLING CODE 4310-33-P